DEPARTMENT OF JUSTICE

Antitrust Division

Notice Pursuant to the National Cooperative Research and Production Act of 1993—Southwest Research Institute (SWRI): Clean Diesel III

Notice is hereby given that, on June 12, 2000, pursuant to section 6(a) of the National Cooperative Research and Production Act of 1993, 15 U.S.C. section 4301 et seq. (“the Act”), Southwest Research Institute: Clean Diesel III has filed written notifications simultaneously with the Attorney General and the Federal Trade Commission disclosing changes in its membership status. The notifications were filed for the purpose of extending the Act's provisions limiting the recovery of antitrust plaintiffs to actual damages under specified circumstances. Specifically, Detroit Diesel Corporation, Detroit, MI; and Jacobs Vehicle System, Inc., Bloomfield, CT have been added as parties to this venture.

No other changes have been made in either the membership or planned activity of the group research project. Membership in this group research project remains open, and Southwest Research Institute: Clean Diesel III intends to file additional written notification disclosing all changes in membership.

On January 12, 2000, Southwest Research Institute: Clean Diesel III filed its original notification pursuant to Section 6(a) of the Act. This notice was published by the Department of Justice in the Federal Register pursuant to section 6(b) of the Act on June 26, 2000 (65 FR 39429).

The last notification was filed with the Department on April 26, 2000. This notice was published in the Federal Register pursuant to section 6(b) of the Act on June 29, 2000 (65 FR 40132).

Constance K. Robinson,
Director of Operations, Antitrust Division.

[FR Doc. 01-5713 Filed 3-7-01; 8:45 am]

BILLING CODE 4410-11-M